DEPARTMENT OF TRANSPORTATION

Federal Aviation Administration

14 CFR Part 39

[Docket No. FAA-2005-22031; Directorate Identifier 2004-NM-259-AD; Amendment 39-14485; AD 2006-04-04]

RIN 2120-AA64

Airworthiness Directives; Meggitt Model 602 Smoke Detectors Approved Under Technical Standard Order (TSO) TSO-C1C and Installed on Various Transport Category Airplanes, Including but Not Limited to Aerospatiale Model ATR42 and ATR72 Airplanes; Boeing Model 727 and 737 Airplanes; McDonnell Douglas Model DC-10-10, DC-10-10F, DC-10-15, DC-10-30 and DC-10-30F (KC-10A and KDC-10), DC-10-40, DC-10-40F, MD-10-10F, MD-10-30F, MD-11, and MD-11F Airplanes

AGENCY: Federal Aviation Administration (FAA), Department of Transportation (DOT).

ACTION: Final rule.

SUMMARY: The FAA is adopting a new airworthiness directive (AD) for certain smoke detectors installed on various transport category airplanes. This AD requires replacing the affected smoke detectors with modified smoke detectors. This AD results from a report indicating that the affected smoke detectors can “lock up” during electrical power transfer from the auxiliary power unit to the engines. We are issuing this AD to identify and provide corrective action for a potentially inoperative smoke detector and to ensure that the flightcrew is alerted in the event of a fire.

DATES: This AD becomes effective March 24, 2006.

The Director of the Federal Register approved the incorporation by reference of a certain publication listed in the AD as of March 24, 2006.

ADDRESSES: You may examine the AD docket on the Internet at http://dms.dot.gov or in person at the Docket Management Facility, U.S. Department of Transportation, 400 Seventh Street, SW., Nassif Building, room PL-401, Washington, DC.

For service information identified in this AD, contact Meggitt Safety Systems Inc., 1915 Voyager Avenue, Simi Valley, California 93063.

FOR FURTHER INFORMATION CONTACT: Ken Sujishi, Aerospace Engineer, Cabin Safety, Mechanical, and Environmental Branch, ANM-150L, FAA, Los Angeles Aircraft Certification Office, 3960 Paramount Boulevard, Lakewood, California 90712-4137; telephone (562) 627-5353; fax (562) 627-5210.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain smoke detectors installed on various transport category airplanes. That NPRM was published in the Federal Register on August 8, 2005 (70 FR 45585). That NPRM proposed to require replacing the affected smoke detectors with modified smoke detectors.

Comments

We provided the public the opportunity to participate in the development of this AD. We have considered the comments on the proposed AD.

Request To Revise Applicability and Compliance Time

The commenter, on behalf of an airline, requests that we revise the applicability of the proposed AD to specify McDonnell Douglas Model 717-200 airplanes. He notes that Meggitt Model 602 smoke detectors are installed on these airplanes as part of the type design. He recognizes that, in this case, the applicability is not limited to the airplane models listed in Table 1 of the proposed AD. But he feels that airplanes known to be equipped with the affected smoke detectors should be specifically identified in the applicability.

He notes that Meggitt Service Information Letter (SIL) 8930-26-01 (cited in the proposed AD) specifies that replacing the smoke detectors on Model 717-200 airplanes could take up to 18 months. He requests that we either extend the compliance time accordingly or obtain Meggitt's written confirmation that all operators can meet the proposed 6-month compliance time.

FAA Response

Since affected Model 602 smoke detectors are installed in Model 717-200 airplanes and the AD applies to smoke detectors installed on transport category airplanes “including but not limited to” the airplane models listed in Table 1, this AD applies to Model 717-200 airplanes. But the smoke detector lock-up condition depends on certain design characteristics of the airplane's electrical system. Testing has demonstrated that the Model 717-200 electrical power transfer characteristics do not cause the smoke detector to lock up. So there is no immediate concern for the safety of flight of Model 717-200 airplanes due to the identified unsafe condition.

Despite this finding, however, we require that all affected smoke detectors be replaced because these interchangeable parts may later be installed on airplanes with the demonstrated unsafe condition. Meggitt has confirmed that a six-month compliance time is feasible, since a significant number of affected smoke detectors have already been modified. But under the provisions of paragraph (i) of this final rule, operators may request an adjustment of the compliance time if they provide data proving that the new compliance time would ensure an acceptable level of safety.

We have not changed the final rule regarding these issues.

Revised Service Information

Meggit has revised SIL 8930-26-01 according to the following schedule.

SIL Revision History
Version | Date
Original issue | November 8, 2004.
Revision A | November 8, 2004.
Revision B | January 19, 2005.
Revision C | May 25, 2005.

The SIL was revised to, among other things, correct an incorrect smoke detector part number; the remaining information in the SIL is essentially the same. We have revised paragraph (f) in this final rule to refer to specific revisions of the SIL.

Clarification of Alternative Method of Compliance (AMOC) Paragraph

We have revised this action to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Costs of Compliance

It takes about 1 work hour per airplane, at an average hourly labor rate of $65, to replace a smoke detector installed on the airplane. Replacement parts will be provided at no cost to the operators. We have been advised that about 4,637 smoke detectors have already been replaced. We estimate that affected smoke detectors are installed on 318 U.S.-registered airplanes. There may be as many as 28 affected smoke detectors on an airplane. This AD could cost as much as $1,820 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-04-04 Transport Category Airplanes: Amendment 39-14485. Docket No. FAA-2005-22031; Directorate Identifier 2004-NM-259-AD.

Effective Date

(a) This AD becomes effective March 24, 2006.

Affected ADs

(b) Accomplishment of certain actions required by this AD terminates certain requirements of AD 2005-02-04, amendment 39-13949.

Applicability

(c) This AD applies to Meggitt Model 602 smoke detectors approved under Technical Standard Order (TSO) TSO-C1C and having any P/N 8930-( ) identified as a “Current Part Number” in Meggitt Service Information Letter 8930-26-01, Revision C, dated May 25, 2005, as installed on various transport category airplanes, certificated in any category, including but not limited to the airplane models listed in Table 1 of this AD.

Table 1.—Certain Affected Airplanes
Manufacturer | Model
Aerospatiale | ATR42-200, -300, -320, and -500 airplanes. ATR72-101, -201, -102, -202, -211, -212, and -212A airplanes.
Boeing | 727, 727C, 727-100, 727-100C, 727-200, and 727-200F series airplanes. 737-100, -200, -200C, -300, -400, -500, -600, -700, -700C, -800 and -900 series airplanes.
McDonnell Douglas | DC-10-10 and DC-10-10F; DC-10-15; DC-10-30 and DC-10-30F (KC-10A and KDC-10); and DC-10-40 and DC-10-40F airplanes. MD-10-10F and MD-10-30F airplanes. MD-11 and MD-11F airplanes.

Unsafe Condition

(d) This AD is prompted by a report indicating that the affected smoke detectors can “lock up” during electrical power transfer from the auxiliary power unit (APU) to the engines. We are issuing this AD to identify and provide corrective action for a potentially inoperative smoke detector and to ensure that the flightcrew is alerted in the event of a fire.

Compliance

(e) You are responsible for having the actions required by this AD performed within the compliance times specified, unless the actions have already been done.

Smoke Detector Identification/Replacement

(f) Within 6 months after the effective date of this AD, replace the affected smoke detector with a modified smoke detector, in accordance with Meggitt Service Information Letter 8930-26-01, Revision C, dated May 25, 2005. Replacement of a smoke detector before the effective date of this AD is also acceptable if done in accordance with the original issue of Meggitt Service Information Letter 8930-26-01, dated November 8, 2004; Revision A, dated November 8, 2004; or Revision B, dated January 19, 2005.

Effect on AD 2005-02-04

(g) For airplanes subject to the requirements of AD 2005-02-04: After all affected smoke detectors have been replaced with modified smoke detectors in accordance with paragraph (f) of this AD, the operational limitation required by paragraph (h) of AD 2005-02-04 is terminated and may be removed from the airplane flight manual.

Parts Installation

(h) On or after the effective date of this AD, no person may install on any airplane a Meggitt Model 602 smoke detector having any P/N 8930-( ) identified as a “Current Part Number” in Meggitt Service Information Letter 8930-26-01, Revision C, dated May 25, 2005.

Alternative Methods of Compliance (AMOCs)

(i)(1) The Manager, Los Angeles Aircraft Certification Office, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Material Incorporated by Reference

(j) You must use Meggitt Service Information Letter 8930-26-01, Revision C, dated May 25, 2005, to perform the actions that are required by this AD, unless the AD specifies otherwise. The Director of the Federal Register approved the incorporation by reference of this document in accordance with 5 U.S.C. 552(a) and 1 CFR part 51. Contact Meggitt Safety Systems Inc., 1915 Voyager Avenue, Simi Valley, California 93063, for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_ federal_regulations/ibr_locations.html.

Issued in Renton, Washington, on February 1, 2006.
Ali Bahrami,
Manager, Transport Airplane Directorate, Aircraft Certification Service.

[FR Doc. 06-1408 Filed 2-16-06; 8:45 am]

BILLING CODE 4910-13-P